DEPARTMENT OF HEALTH AND HUMAN SERVICES

Administration for Children and Families

Proposed Information Collection Activity; Comment Request

Proposed Projects

Title: Title IV-E Programs Quarterly Financial Report.

OMB No.: 0970-0205.

Description: Historically, State agencies have administered programs under title IV-E of the Social Security Act for the Foster Care and Adoption Assistance Programs. The Administration for Children and Families provides Federal funding at the rate of 50 percent for most of the administrative costs of these programs and at other rates for other specific categories of costs as detailed in Federal statute and regulations.

The enactment of Public Law 110-351, the “Fostering Connections to Success and Increasing Adoptions Act of 2008” introduced two major changes to the title IV-E programs: (1) The inception of the Guardianship Assistance Program for all grantees, effective October 1, 2008 and, (2) the availability of these programs to Tribes and Tribal Organizations, effective October 1, 2009.

We anticipate that this form will be revised and redesigned to be applicable to both State and Tribal grantees.

This form is submitted quarterly by each State or Tribe to estimate its funding needs for the upcoming fiscal quarter and to report expenditures for the fiscal quarter just ended. The information collected in this report is used by this agency to calculate quarterly Federal grant awards and to enable oversight of the financial management of the programs.

Respondents: State agencies (including the District of Columbia and Puerto Rico) and Tribal agencies (starting in FY 2010) administering the Foster Care, Adoption Assistance and Guardianship Assistance programs under Title IV-E of the Social Security Act.

Annual Burden Estimates
Instrument | Number of respondents | Number of responses per respondent | Average burden hours per response | Total burden hours
Title IV-E Programs Quarterly Financial Report | 70 | 4 | 20 | 5,600

Estimated Total Annual Burden Hours: 5,600.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: May 6, 2009.
Robert Sargis,
Reports Clearance Officer.

[FR Doc. E9-11149 Filed 5-13-09; 8:45 am]

BILLING CODE 4184-01-M